DEPARTMENT OF COMMERCE

National Oceanic and Atmospheric Administration

RIN 0648-XO15

Taking and Exporting Marine Mammals; Taking Marine Mammals Incidental to the Knik Arm Crossing

AGENCY: National Marine Fisheries Service (NMFS), National Oceanic and Atmospheric Administration (NOAA), Commerce.

ACTION: Notice; withdrawal of application.

SUMMARY: Notice is hereby given that the Knik Arm Bridge Toll Authority (KABATA), 550 West 7th Ave, Suite 1850, Anchorage, Alaska, 99501, has withdrawn its application for regulations and subsequent Letters of Authorization (LOAs) regarding the harassment of marine mammals incidental to construction of the Knik Arm Crossing.

ADDRESSES: The documents related to this action are available for review upon written request or by appointment in the following offices:

Permits, Conservation and Education Division, Office of Protected Resources, NMFS, 1315 East-West Highway, Room 13705, Silver Spring, MD 20910; phone (301) 713-2289; fax (301) 427-2521; and

Alaska Region, NMFS, P.O. Box 21668, Juneau, AK 99802-1668; phone (907) 586-7221; fax (907) 586-7249.

FOR FURTHER INFORMATION CONTACT: Jaclyn Daly, (301) 713-2289.

SUPPLEMENTARY INFORMATION: On August 23, 2006, a notice was published in the Federal Register (71 FR 49433) that an application for regulations governing the incidental take of marine mammals had been filed by KABATA. The Knik Arm Crossing is a proposed bridge across Knik Arm, linking Anchorage and the Matanuska-Susitna Borough. Construction of the bridge would result in the harassment of marine mammals, including, but not limited to, the endangered Cook Inlet beluga whale (Dephinapterus leucas). On March 12, 2009, KABATA submitted a letter to NMFS announcing the withdrawal of their request for regulations and subsequent LOAs. Consequently, NMFS has terminated the processing of KABATA's application.

Dated: March 19, 2009.
James H. Lecky,
Director, Office of Protected Resources, National Marine Fisheries Service.

[FR Doc. E9-6635 Filed 3-24-09; 8:45 am]

BILLING CODE 3510-22-S